DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 326, and other Federal agencies.

SUMMARY: The FHWA, on behalf of Caltrans, is issuing this notice to announce actions taken by Caltrans, and other Federal agencies, that are final within the meaning of 23 U.S.C. 139(l)(1). The actions relate to a proposed local assistance bridge replacement project on Main Street (former State Route 49) in Amador City, Amador County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 5, 2012. If the Federal law that authorizes judicial review of a claim provides a time period of less than 180 days for filing such claim, then that shorter time period still applies.

FOR FURTHER INFORMATION CONTACT: For Caltrans: Jacqueline Wait, Chief, Environmental MPS and Local Assistance Branch (Unit 2576), California Department of Transportation, District 10, 1976 E. Dr. Martin Luther King Jr. Blvd., Stockton, CA 95205, 9 a.m. to 5 p.m. Pacific time, (209) 948-7427, Jacqueline_Wait@dot.ca.gov.

SUPPLEMENTARY INFORMATION: Effective July 1, 2007, the FHWA assigned, and Caltrans assumed, environmental responsibilities for this project pursuant to 23 U.S.C. 326. Notice is hereby given that the Caltrans has taken final agency actions subject to 23 U.S.C. 139(l)(1) by issuing licenses, permits, and approvals for the following highway project in the State of California: The Amador Creek Bridge Replacement Project on Main Street (former State Route 49) in Amador City, Amador County, California. This project would replace the structurally-deficient Amador Creek Bridge (Bridge No. 26C-0052), a contributing element to the Amador City Historic District, and improve three adjoining road segments. The existing two-lane, two-span, steel stringer/multi-beam bridge would be replaced with a two-lane, single-span, concrete slab bridge. The FHWA project reference number is BRLS-5228(002). The actions by the Federal agencies, and the laws under which such actions were taken, are described in the Final Individual Section 4(f) Evaluation for the project, approved on August 17, 2011 and in the Categorical Exclusion (CE) issued on October 20, 2011. The Final Individual Section 4(f) Evaluation, CE, and other project records are available by contacting Caltrans District 10 at the address provided above. This notice applies to all Federal agency decisions as of the issuance date of this notice and all laws under which such actions were taken, including but not limited to:

1. General: National Environmental Policy Act of 1969, as amended [42 U.S.C. 4321 et seq.]; Section 4(f) of the Department of Transportation Act of 1966, Section 4(f), as amended [49 U.S.C. 303]; Section 6004 of the Safe, Accountable, Flexible, Efficient Transportation Equity Act: A Legacy for Users (SAFETEA-LU) [Pub. L. 109-59].

2. Air: Clean Air Act [42 U.S.C. 7401-7671(q)].

3. Wildlife: The Endangered Species Act of 1973 [16 U.S.C. 1531-1543)]; Migratory Bird Treaty Act of 1918, as amended [16 U.S.C. 703-711]; Fish and Wildlife Coordination Act of 1934, as amended [16 U.S.C. 661-666].

4. Historic and Cultural Resources: Section 106 of the National Historic Preservation Act of 1966, as amended [16 U.S.C. 470(aa)-11].

5. Social and Economic: Title VI of the Civil Rights Act of 1964, as amended [42 U.S.C. 2000(d) et seq.].

6. Executive Orders: E.O. 11988 Floodplain Management; E.O. 13112 Invasive Species.

(Catalog of Federal Domestic Assistance Program Number 20.205, Highway Planning and Construction. The regulations implementing Executive Order 12372 regarding intergovernmental consultation on Federal programs and activities apply to this program.)

Authority: 23 U.S.C. 39(l)(1)

Issued on: February 1, 2012.
Gary Sweeten,
North Team Leader, Local Programs, Federal Highway Administration, Sacramento, California.

[FR Doc. 2012-2699 Filed 2-6-12; 8:45 am]

BILLING CODE 4910-RY-P